TENNESSEE VALLEY AUTHORITY

Sunshine Act Meeting

Agency Holding the Meeting: Tennessee Valley Authority (Meeting No. 1523).

Time and Date: 9 a.m. (EDT), September 27, 2000.

Place: TVA Knoxville West Tower Auditorium, 400 West Summit Hill Drive, Knoxville, Tennessee.

Status: Open.

Agenda

Approval of minutes of meeting held on August 29, 2000.

New Business

A—Budget and Financing

A1. Approval of power system operating and capital budgets for Fiscal Year 2001.

A2. Approval of short-term borrowing from the Treasury.

B—Purchase Awards

B1. Contract with Bicentennial Volunteers Incorporated to continue to provide personnel assistance for TVA/BVI emergency support of the Federal Emergency Management Agency and other Federal agencies.

B2. Contract with PS Energy Group for a TVA system-wide comprehensive fuel management, lubricant products, and services program under Section 8(a) of the Small Business Act.

B3. Contract with Waste Management for a TVA system-wide solid waste disposal services management program.

C1. Contracts with General Electric Company and TurboCare for replacement steam turbine blades and associated services.

C2. Supplement to contract with Siemans Power T&D, Inc., for power circuit breakers.

C3. Supplement to contract with Southern States, Inc., for disconnect switches and related equipment.

C4. Supplement to contract with Framatome Cogema Fuels for nuclear fuel fabrication for Sequoyah Nuclear Plant.

C5. Increase in prices under Dispersed Power Price Schedule.

E—Real Property Transactions

E1. Sale of nomcommercial, nonexclusive permanent easements to Danny Grimshaw and Robert D. Mestach affecting 0.10 acre of land on Tellico Reservoir in Loudon and Monroe Counties, Tennessee, for the construction, operation, and maintenance of private water-use facilities (Tract Nos. XTELR-216RE and -217RE).

E2. Deed modification to remove a recreation restriction and change to residential development affecting approximately 6.1 acres of former TVA land on Fort Loudoun Reservoir in Blount County, Tennessee, to allow the State of Tennessee to exchange the 6.1 acres of residential development for 158 acres of land more suitable for public recreation (Tract No. XTFL-13).

F—Unclassified

1. Approval to file condemnation cases to acquire permanent easements and rights-of-way for an access road and transmission lines at the Bessemer-Tuscaloosa Tap to Airport Lane, Jefferson County, Alabama; Melton Hill-Loudon County, Tennessee; and the Weaver-Young Cane transmission line in Union County, Georgia.

For more information: Please call TVA Public Relations at (423) 632-6000, Knoxville, Tennessee. Information is also available at TVA's Washington Office (202) 898-2999. People who plan to attend the meeting and have special needs should call (865) 632-6000.

Dated: September 20, 2000.
William L. Osteen,
Associate General Counsel and Assistant Secretary.

[FR Doc. 00-24620 Filed 9-21-00; 10:22 am]

BILLING CODE 8120-08-M